DEPARTMENT OF ENERGY

Bonneville Power Administration

(Eastern Washington Reinforcement)

Grand Coulee-Bell 500-kV Transmission Line Project

AGENCY: Bonneville Power Administration (Bonneville), Department of Energy (DOE).

ACTION: Notice of intent to prepare an Environmental Impact Statement (EIS) and notice of floodplain and wetlands involvement.

SUMMARY: Bonneville intends to prepare an EIS on the proposed construction, operation, and maintenance of an 84-mile-long 500-kilovolt (kV) transmission line in Douglas, Grant, Lincoln, and Spokane Counties, Washington. The new line would start at Bonneville's Bell Substation in Spokane, and proceed west along an existing right-of-way for about 84 miles, terminating at the Bureau of Reclamation's existing Grand Coulee Switchyard at Grand Coulee Dam. The new line would be built mostly on existing right-of-way, and would replace an existing 115-kV wood pole line.

In accordance with DOE regulations for compliance with floodplain and wetlands environmental review requirements, Bonneville will prepare a floodplain and wetlands assessment as necessary to avoid or minimize potential harm to or within any affected floodplains and wetlands. The assessment will be included in the EIS being prepared for the proposed project in accordance with the National Environmental Policy Act (NEPA).

DATES: Written comments on the NEPA scoping process are due to the address below no later than February 11, 2002. Comments may also be made at EIS scoping meetings to be held on January 28, 29, and 30, 2002, at the addresses below.

ADDRESSES: Send letters with comments and suggestions on the proposed scope of the Draft EIS to Communications, Bonneville Power Administration—KC-7, PO Box 12999, Portland, Oregon, 97212. You may also call Bonneville's toll-free comment line at 1-800-622-4519; name this project, and record your complete name, address, and comments. Comments may also be sent to the Bonneville Internet address at comment@bpa.gov. To be placed on the project mail list, call 1-800-622-4520.

Comments may also be made at EIS scoping meetings to be held on Monday, January 28, 2002, 4 to 8 p.m., at Inland Northwest Wildlife Council Auditorium, 6116 N. Market Street, Spokane, Washington; Tuesday, January 29, 2002, 4 to 8 p.m., at Old Center School Building (Big Bend Community College), 317 Spokane Way, Grand Coulee, Washington; and Wednesday, January 30, 2002, 4 to 8 p.m., at Davenport Elementary School, 1101 7th Street, Davenport, Washington. At these informal open-house meetings, we will provide information, including maps about the project, and have several members of the project team available to answer questions and accept oral and written comments.

FOR FURTHER INFORMATION CONTACT: Mark Korsness, Project Manager, Bonneville Power Administration—TNP-TPP-3, PO Box 61409, Vancouver, Washington, 98666-1409; toll-free telephone 1-800-282-3713; direct telephone 360-619-6326; or e-mail makorsness@bpa.gov. You may also contact Inez Graetzer, Environmental Coordinator, Bonneville Power Administration—KEC-4, PO Box 3621, Portland, Oregon 97208-3621; telephone 503-230-3786; fax 503-230-5699; or e-mail isgraetzer@bpa.gov.

SUPPLEMENTARY INFORMATION: The proposed 84-mile-long 500-kV transmission line would replace an existing 115-kV wood pole transmission line that runs between Bonneville's Bell Substation in Spokane, Washington, and the Bureau of Reclamation's Grand Coulee Switchyard at Grand Coulee Dam. The new line would be located primarily in Bonneville's existing right-of-way corridor. It would be a single-circuit line for the first 75 miles out of Grand Coulee Switchyard and a double-circuit line for the last 9 miles into Bell Substation. The project is needed to increase reliability and to support current and future demand for electricity in Washington State and the Pacific Northwest. The transmission line corridor between Grand Coulee Switchyard and Bell Substation currently contains two 115-kV transmission lines on wood pole structures and three 230-kV transmission lines on two steel lattice structures. Together, these transmission lines can no longer efficiently move power from generation sources east of Spokane to load centers west of Spokane. Replacing one of the 115-kV lines with a 500-kV line would relieve the restricted ability to transmit electrical power along this corridor, provide for future growth, and enhance service reliability to the community and the Pacific Northwest.

This proposed project was originally considered in 1993-1994 and was known as the Eastern Washington Main Grid Support Project. The proposal at that time was to build a double-circuit line between Bell Substation and Grand Coulee Switchyard, with the alternative being to build a single-circuit line. The project was scoped with the public, comments were incorporated into the proposal, environmental analysis was done, and a draft EIS was prepared to be released to the public when the project was cancelled for fiscal reasons.

Alternatives Proposed for Consideration. At this point the alternatives we are considering for evaluation in the EIS is the proposed action and the alternative of not building the line (an alternative we always consider). Other alternatives may be identified through the scoping process.

Public Participation and Identification of Environmental Issues. Bonneville has established a 30-day scoping period during which affected landowners, concerned citizens, special interest groups, local governments, and any other interested parties are invited to comment on the scope of the proposed EIS. Scoping will help Bonneville ensure that a full range of issues related to this proposal is addressed in the EIS, and also will identify significant or potentially significant impacts that may result from the proposed project.

The potential environmental issues identified for most transmission projects include: land use, cultural resources, visual resources, sensitive plants and animals, erosion/soils, and fish and water resources. The scoping process will help identify the range of environmental issues that should be addressed in this EIS. When completed, the Draft EIS will be circulated for review and comment, and Bonneville will hold several public meetings to receive comments on the Draft EIS. Bonneville will consider and respond in the Final EIS to comments received on the Draft EIS. Bonneville's decision will be documented in a Record of Decision. The EIS will satisfy the requirements of NEPA.

Issued in Portland, Oregon, on January 4, 2002.
Stephen J. Wright,
Acting Administrator and Chief Executive Officer.

[FR Doc. 02-893 Filed 1-11-02; 8:45 am]

BILLING CODE 6450-01-P